ENVIRONMENTAL PROTECTION AGENCY

[ER-FRL-6688-9]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167.

An explanation of the ratings assigned to draft environmental impact statements (EISs) was published in the Federal Register dated April 6, 2007 (72 FR 17156).

Draft EISs

EIS No. 20070176, ERP No. D-AFS-L65535-ID, Spruce Creek Project, Proposed Timber Harvest, Temporary Road Construction, Thinning of Sub-Merchantable Trees, Enhancement of Asper and Whitebark Pine, Cascade Ranger District, Boise National Forest, Valley County, ID.

Summary: EPA commends the Forest Service for meeting the non-point source TMDL requirements in the project area. However, EPA has environmental concerns about potential impacts to Riparian Conservation Areas from timber management activities. Rating EC2.

EIS No. 20070188, ERP No. D-FHW-C40170-NY, Fort Drum Connector Route Project, Proposed Link between I-81 and U.S. Route 11 at the Fort Drum North Gate, Town of Le Ray and Pamelia, Jefferson County, NY.

Summary: EPA expressed environmental concern about wetland impacts, and requested additional information about mitigation measures. Rating EC2.

Final EISs

EIS No. 20070214, ERP No. F-FRC-G02015-00, East Texas to Mississippi Expansion Project, Construction and Operation of 243.3 miles Natural Gas Pipeline to Transport Natural Gas from Production Fields in eastern Texas to Markets in the Gulf Coast, Midwestern, Northeastern and Southeastern United States.

Summary: No formal comment letter was sent to the preparing agency.

EIS No. 20070217, ERP No. F-CDB-C80016-NY, East River Waterfront Esplanade and Piers Project, Revitalization, Connecting Whitehall Ferry Terminal and Peter Minuit Plaza to East River Park, Funding, New York, NY.

Summary: EPA does not object to the proposed project.

EIS No. 20070224, ERP No. F-BLM-K65319-CA, Sierra Resource Management Plan, Provide Direction for Managing Public Lands, Several Counties, CA.

Summary: EPA continues to express environmental concern about impacts to water quality and aquatic habitat, and to public health from exposure to naturally occurring asbestos.

EIS No. 20070250, ERP No. F-NPS-D65037-PA, Flight 93 National Memorial, Designation of Crash Site to Commemorate the Passengers and Crew of Flight 93, Implementation, Stonycreek Township, Somerset County, PA.

Summary: EPA does not object to the proposed action.

Dated: July 10, 2007.
Robert W. Hargrove,
Director, NEPA Compliance Division, Office of Federal Activities.

[FR Doc. E7-13659 Filed 7-12-07; 8:45 am]

BILLING CODE 6560-50-P